DEPARTMENT OF ENERGY

Federal Energy Regulatory Commission

[Project No. 15292-000]

Dashields Hydropower Corporation; Notice of Preliminary Permit Application Accepted for Filing and Soliciting Comments, Motions To Intervene, and Competing Applications

On November 4, 2022, Dashields Hydropower Corporation filed an application for a preliminary permit, pursuant to section 4(f) of the Federal Power Act (FPA), proposing to study the feasibility of the Dashields Locks and Dam Hydroelectric Project to be located at the existing U.S. Army Corps of Engineers' (Corps) Pittsburgh District Dashields Locks and Dam located on the Ohio River at Coraopolis, Allegheny County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) a new 150-foot-long, 90-foot-wide intake channel to be located immediately downstream of the opposite bank of the Corps' existing locks and dam; (2) two new 5-megawatt Kaplan pit turbine/generator units; (3) a new 200-foot-long, 90-foot-wide, 105-foot-high powerhouse; (4) a new 60-foot-long, 40-foot-wide substation with a new 13.8/69-kilovolt (kV) three-phase step-up transformer; (5) a new three-phase, 69-kV, 2-mile-long transmission line; (6) a new 175-foot-long, 90-foot-wide tailrace; and (7) appurtenant facilities. The proposed project would have an annual generation of 52,000 megawatt-hours.

Applicant Contact: Alan W. Skelly, Dashields Hydropower Corporation, 127 Longwood Blvd., Mount Orab, OH 45154; phone: (937) 802-8866.

FERC Contact: Woohee Choi; email: woohee.choi@ferc.gov; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15292-000.

More information about this project, including a copy of the application, can be viewed or printed on the “eLibrary” link of the Commission's website at http://www.ferc.gov/docs-filing/elibrary.asp. Enter the docket number (P-15292) in the docket number field to access the document. For assistance, contact FERC Online Support.

Dated: May 4, 2023.
Kimberly D. Bose,
Secretary.

[FR Doc. 2023-09937 Filed 5-9-23; 8:45 am]

BILLING CODE 6717-01-P